DEPARTMENT OF HEALTH AND HUMAN SERVICES

Centers for Medicare and Medicaid Services

[Document Identifier: CMS-643, CMS-668B, CMS-10067]

Agency Information Collection Activities: Submission for OMB Review; Comment Request

AGENCY: Centers for Medicare and Medicaid Services, HHS.

In compliance with the requirement of section 3506(c)(2)(A) of the Paperwork Reduction Act of 1995, the Centers for Medicare and Medicaid Services (CMS) (formerly known as the Health Care Financing Administration (CMS)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved request; Title of Information Collection: Hospice Survey and Deficiencies Report Form and Supporting Regulations at 42 CFR part 488.26 and 4442.30; Form No.: CMS-643 (OMB# 0938-0379); Use: In order to participate in the Medicare program, a hospice must meet certain Federal health and safety conditions of participation. This form will be used by State surveyors to record data about a hospice's compliance with these conditions of participation in order to initiate the certification or recertification process; Frequency: On occasion; Affected Public: Not-for-profit institutions, Business or other for-profit; Number of Respondents: 2,339; Total Annual Responses: 475; Total Annual Hours: 238.

2. Type of Information Collection Request: Extension of a currently approved collection; Title of Information Collection: Post Laboratory Survey Questionnaire—Laboratory, and Supporting Regulations in 42 CFR 493.1771, 493.1773, and 493.1777; Form No.: CMS-668B (OMB# 0938-0653); Use: To provide an opportunity and a mechanism for CLIA laboratories surveyed by CMS or CMS' agent to express their satisfaction and concerns about the CLIA survey process; Frequency: Biennially; Affected Public: Business or other for-profit, Not-for-profit institutions; Number of Respondents: 22,500; Total Annual Responses: 11,250; Total Annual Hours: 2,813.

3. Type of Information Collection Request: Extension of a currently approved collection; Title of Information Collection: Pharmacy Plus Template for Low Income Seniors under Medicaid; Form No.: CMS-10067 (OMB# 0938-0889); Use: The template for the Pharmacy Plus program for low income seniors under Medicaid will enable states to apply, via a standard format, to provide a drug benefit to elderly recipients; use of this format will expedite the process of obtaining CMS review and approval of an application; Frequency: Other: 3 years after initial submission for the 1915 (c) waiver; 5 years after initial submission for the 1115 demonstration; Affected Public: State Government; Number of Respondents: 51; Total Annual Responses: 25; Total Annual Hours: 115.

To obtain copies of the supporting statement and any related forms for the proposed paperwork collections referenced above, access CMS's Web site address at http://cms.hhs.gov/regulations/pra/default.asp, or E-mail your request, including your address, phone number, OMB number, and CMS document identifier, to Paperwork@hcfa.gov, or call the Reports Clearance Office on (410) 786-1326. Written comments and recommendations for the proposed information collections must be mailed within 30 days of this notice directly to the OMB desk officer: OMB Human Resources and Housing Branch, Attention: Brenda Aguilar, New Executive Office Building, Room 10235, Washington, DC 20503.

Dated: July 28, 2003.
Julie Brown,
Acting, Paperwork Reduction Act Team Leader, CMS Reports Clearance Officer, Office of Strategic Operations and Strategic Affairs, Division of Regulations Development and Issuances.

[FR Doc. 03-19699 Filed 8-1-03; 8:45 am]

BILLING CODE 4120-03-P